DEPARTMENT OF COMMERCE

National Oceanic and Atmospheric Administration

50 CFR Part 622

RIN 0648-XH105

South Atlantic Fishery Management Council; Public Hearings Pertaining to Regulatory Amendment 33 to the Snapper Grouper Fishery Management Plan for the South Atlantic Region

AGENCY: National Marine Fisheries Service (NMFS), National Oceanic and Atmospheric Administration (NOAA), Commerce.

ACTION: Notice of proposed rulemaking; public hearings.

SUMMARY: The South Atlantic Fishery Management Council (Council) will hold a series of public hearings pertaining to Regulatory Amendment 33 to the Snapper Grouper Fishery Management Plan for the South Atlantic Region. The amendment would revise management measures for red snapper.

DATES: The public hearings will be held via listening stations and webinar August 12, 2019 through August 15, 2019.

ADDRESSES:

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The public hearings will be conducted via webinar with assigned listening stations. The public hearings will begin at 6 p.m. Registration for the webinars is required. Registration information will be posted on the Council's website at www.safmc.net as it becomes available. Listening stations for each hearing will be available at the following locations:

August 12, 2019 Webinar

1. Jacksonville University, 2800 University Blvd. N, Jacksonville, FL 32211. (Meeting in Davis College of Business Conference Room 171);

2. Murrells Inlet Community Center, 4462 Murrells Inlet Road, Murrells Inlet, SC 29576.

August 13, 2019 Webinar

1. Willie Gallimore Recreation Center, City of St. Augustine, 399 Riberia Street, St. Augustine, FL 32084;

2. Haddrell's Point Fin to Feather, 887 Ben Sawyer Blvd., Mt. Pleasant, SC 29464;

3. Georgia Department of Natural Resources Coastal Resources Division, One Conservation Way, Suite 300, Brunswick, GA 31520.

August 14, 2019 Webinar

1. Barron Center, 105 South Riverside Drive, New Smyrna Beach, FL 32168;

2. NC Division of Marine Fisheries, Southern District Office, 127 Cardinal Drive, Extension, Wilmington, NC 28405.

August 15, 2019 Webinar

1. Kiwanis Island Park Recreation Center, Doyle Carlton Room, 951 Kiwanis Island Park Road, Merritt Island, FL 32952;

2. NC Division of Marine Fisheries, Central District Office, 5285 Highway 70 West, Morehead City, NC 28557.

Regulatory Amendment 33 to the Snapper Grouper Fishery Management Plan

The number of recreational fishing days for red snapper in federal waters in the South Atlantic is determined by NOAA Fisheries each year, based on estimated harvest from the previous year. If fishing is allowed, the opening dates of both the recreational fishery and commercial fishery currently begin in July. The Council is considering options for modifying the current parameters in place, including the season start dates, as well as days of the week when red snapper harvest is allowed to allow more flexibility for the season and optimize fishing opportunities for red snapper.

Regulatory Amendment 33 to the Snapper Grouper Fishery Management Plan would address these modifications and includes actions to remove the minimum number of days for allowing a red snapper season (currently 3 days or more), modify the start date of the recreational red snapper season, revise the days of the week recreational harvest would be allowed, and modify the start date of the red snapper commercial fishery.

During the public hearings, Council staff will present an overview of the amendment via webinar and answer clarifying questions relevant to the proposed actions. Area Council members will be present at each of the Listening Stations to help answer questions and facilitate discussion. Members of the public will have an opportunity to go on record to record their comments for consideration by the Council.

Special Accommodations

These hearings are physically accessible to people with disabilities. Requests for auxiliary aids should be directed to the Council office (see ADDRESSES) 5 days prior to the public hearings.

Note: The times and sequence specified in this agenda are subject to change.

Authority: 16 U.S.C. 1801 et seq.

Dated: July 18, 2019.
Tracey L. Thompson,
Acting Deputy Director, Office of Sustainable Fisheries, National Marine Fisheries Service.

[FR Doc. 2019-15597 Filed 7-23-19; 8:45 am]

BILLING CODE 3510-22-P